LEGAL SERVICES CORPORATION

Sunshine Act Meeting of the Board of Directors Finance Committee

Time and Date: The Finance Committee of the Legal Services Corporation Board of Directors will meet on January 31, 2003. The meeting will begin at 3:15 p.m. and continue until the Committee concludes its agenda.

Location: The Washington Court Hotel, 525 New Jersey Avenue, NW, Washington, DC.

Status of Meeting: Open.

Matters to be Considered: 1. Approval of agenda.

2. Approval of the minutes of the Committee's meeting of November 8, 2002.

3. Report on LSC's Temporary Operating Budget, Expenses and Other Funds Available through December 31, 2002.

4. Consider and act on amendments to the 403(b) Thrift Plan for Employees of LSC.

5. Consider and act on amendments to LSC's Flexible Spending Account.

6. Consider and act on other business.

7. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: January 23, 2003.
Victor M. Fortuno,
Vice President for Legal Affairs, General Counsel & Corporate Secretary.

[FR Doc. 03-1991 Filed 1-24-03; 8:45 am]

BILLING CODE 7050-01-P